DEPARTMENT OF ENERGY

Federal Energy Regulatory Commission

[Docket No. RP00-376-001]

Trunkline LNG Company; Notice of Compliance Filing

August 10, 2000.

Take notice that on August 7, 2000, Trunkline LNG Company (TLNG) tendered for filing as part of its FERC Gas Tariff, Original Volume No. 1-A, the following tariff sheets to be effective March 27, 2000:

Sub First Revised Sheet No. 82

Sub First Revised Sheet No. 83

Sub First Revised Sheet No. 89

TLNG asserts that the purpose of this filing is to comply with the Commission's Letter Order issued on July 28, 2000 in Docket No. RP00-376-000, 92 FERC ¶ 61,101 (2000). As directed by the Commission, TLNG has modified Section 9 of the General Terms and Conditions to provide that the waiver of the price cap for short-term capacity release transactions is effective until September 30, 2002, regardless of when the capacity release expires.

TLNG states that a copy of this filing is available for public inspection during regular business hours at TLNG's office at 5444 Westheimer Road, Houston, Texas 77056-5306. In addition, copies of this filing are being served on all affected customers, applicable state regulatory agencies and parties to this proceeding.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-20753 Filed 8-15-00; 8:45 am]

BILLING CODE 6717-01-M